DEPARTMENT OF HEALTH AND HUMAN SERVICES

Health Resources and Services Administration

Meeting of the National Advisory Council on the National Health Service Corps

AGENCY: Health Resources and Services Administration (HRSA), Department of Health and Human Services.

ACTION: Notice.

SUMMARY: In accordance with the Federal Advisory Committee Act, this notice announces that the National Advisory Council on the National Health Service Corps (NACNHSC) will hold public meetings for the 2022 calendar year (CY). Information about NACNHSC, agendas, and materials for these meetings can be found on the NACNHSC website at: https://www.hrsa.gov/advisory-committees/national-health-service-corps.

DATES: NACNHSC meetings will be held on:

• March 29, 2022, 9:00 a.m.-5:00 p.m. Eastern Time (ET) and March 30, 2022, 9:00 a.m.-2:00 p.m. ET;

• June 28, 2022, 9:00 a.m.-5:00 p.m. ET and June 29, 2022, 9:00 a.m.-2:00 p.m. ET; and

• November 15, 2022, 9:00 a.m.-5:00 p.m. ET and November 16, 2022, 9:00 a.m.-2:00 p.m. ET.

ADDRESSES: Meetings may be held in-person, by teleconference, and/or ZOOM. For updates on how meetings will be held, visit the NACNHSC website 30 business days before the date of the meeting, where instructions for joining meetings either in-person or remotely will be posted. In-person NACNHSC meetings will be held at 5600 Fishers Lane, Rockville, Maryland 20857. For meeting information updates, go to the meetings page on the NACNHSC website at https://www.hrsa.gov/advisory-committees/national-health-service-corps/meetings.

FOR FURTHER INFORMATION CONTACT: Diane Fabiyi-King, Designated Federal Official, Division of National Health Service Corps, HRSA, 5600 Fishers Lane, Rockville, Maryland 20857; phone (301) 443-3609; or NHSCAdvisoryCouncil@hrsa.gov.

SUPPLEMENTARY INFORMATION: The NACNHSC consults with, advises, and makes recommendations to the Secretary of Health and Human Services with respect to the Secretary's responsibilities in carrying out Subpart II, Part D of Title III of the Public Health Service Act (42 U.S.C. 254d-254k), as amended, including the designation of areas of the United States with health professional shortages and assignment of National Health Service Corps (NHSC) clinicians to improve the delivery of health services in health professional shortage areas. Since priorities dictate meeting times, be advised that start times, end times, and agenda items are subject to change. Refer to the meeting website listed above for any meeting updates.

For CY 2022 meetings, agenda items may include, but are not limited to, the identification of NHSC priorities for future program issues and concerns; proposed policy changes by using the varying levels of expertise represented on the NACNHSC to advise on specific program areas; updates from clinician workforce experts; and education and practice improvement in the training development of primary care clinicians. More general items may include: Presentations and discussions on the current and emerging needs of the health workforce; public health priorities; health care access and evaluation; NHSC-approved sites; HRSA priorities and other federal health workforce and education programs that impact the NHSC.

Refer to the NACNHSC website listed above for all current and updated information concerning the CY 2022 NACNHSC meetings, including draft agendas and meeting materials that will be posted 30 calendar days before the meeting.

Members of the public will have the opportunity to provide comments. Public participants may submit written statements in advance of the scheduled meeting(s). Oral comments will be honored in the order they are requested and may be limited as time allows. Requests to submit a written statement or make oral comments to the NACNHSC should be sent to Diane Fabiyi-King using the contact information above at least 5 business days before the meeting date(s).

Individuals who need special assistance or another reasonable accommodation should notify Diane Fabiyi-King using the contact information listed above at least 10 business days before the meeting(s) they wish to attend. If in-person meetings are held, they will occur in a federal government building and attendees must go through a security check to enter the building. All in-person attendees must follow the workplace safety protocols regarding COVID-19. Guidance is provided on the website https://www.saferfederalworkforce.gov/. Non-U.S. citizen attendees must notify HRSA of their planned attendance at an in-person meeting at least 20 business days prior to the meeting in order to facilitate their entry into the building. All attendees are required to present government-issued identification prior to entry.

Maria G. Button,
Director, Executive Secretariat.

[FR Doc. 2022-02606 Filed 2-7-22; 8:45 am]

BILLING CODE 4165-15-P